ENVIRONMENTAL PROTECTION AGENCY

[EPA-HQ-OPPT-2003-0004; FRL-9909-73]

Access to Confidential Business Information by Electronic Consulting Services Federal Inc. and Its Identified Subcontractors

AGENCY: Environmental Protection Agency (EPA).

ACTION: Notice.

SUMMARY: EPA has authorized its contractor, Electronic Consulting Services Federal Inc. (ECS) of Fairfax, VA and its subcontractors, to access information which has been submitted to EPA under all sections of the Toxic Substances Control Act (TSCA). Some of the information may have been claimed or determined to be Confidential Business Information (CBI).

DATES: Access to the confidential data occurred on or about March 31, 2014.

FOR FURTHER INFORMATION CONTACT: For technical information contact: Scott Sherlock, Environmental Assistance Division (7408M), Office of Pollution Prevention and Toxics, Environmental Protection Agency, 1200 Pennsylvania Ave. NW., Washington, DC 20460-0001; telephone number: (202) 564-8257; email address: sherlock.scott@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. This action may, however, be of interest to all who manufacture, process, or distribute industrial chemicals. Since other entities may also be interested, the Agency has not attempted to describe all the specific entities that may be affected by this action.

B. How can I get copies of this document and other related information?

The docket for this action, identified by docket identification (ID) number EPA-HQ-OPPT-2003-0004, is available at http://www.regulations.gov or at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. What action is the Agency taking?

Under EPA contract number GS-35F-0601K, order number EP-G12H-00442, contractor ECS of 2750 Prosperity Avenue, Suite 600, Fairfax, VA; Agensys Corporation of 23700 Pebble Run Place, Suite 100, Ashburn, VA; Apex Systems of 5430 Wade Park Boulevard, Suite 302, Raleigh, NC; and Tek Systems, Inc. of 7437 Race Road, Hanover, MD are assisting EPA by performing upgrades of EZ Tech managed computers at Headquarters, Research Triangle Park, NC and Cincinnati, OH EPA Program Offices.

In accordance with 40 CFR 2.306(j), EPA has determined that under EPA contract number GS-35F-0601K, order number EP-G12H-00442, ECS and its subcontractors required access to CBI submitted to EPA under all section(s) of TSCA to perform successfully the duties specified under the contract. ECS and its subcontractors' personnel were given access to information submitted to EPA under all section(s) of TSCA. Some of the information may have been claimed or determined to be CBI.

EPA is issuing this notice to inform all submitters of information under all sections of TSCA that EPA has provided ECS and its subcontractors access to these CBI materials on a need-to-know basis only. All access to TSCA CBI under this contract is taking place at EPA Headquarters, Research Triangle Park, NC and Cincinnati, OH in accordance with EPA's TSCA CBI Protection Manual.

Access to TSCA data, including CBI, will continue until September 20, 2016. If the contract is extended, this access will also continue for the duration of the extended contract without further notice.

ECS and its subcontractors' personnel have signed nondisclosure agreements and were briefed on appropriate security procedures before they were permitted access to TSCA CBI.

List of Subjects

Environmental protection, Confidential business information.

Dated: April 24, 2014.
Sonchi Tran,
Acting Director, Information Management Division, Office of Pollution Prevention and Toxics.

[FR Doc. 2014-10959 Filed 5-13-14; 8:45 am]

BILLING CODE 6560-50-P